GENERAL SERVICES ADMINISTRATION

[FMR Bulletin 2006-B4]

Federal Management Regulation; Federal Real Property Profile Summary Report

AGENCY: General Services Administration.

ACTION: Notice.

SUMMARY: In furtherance of FMR Bulletin 2005-B4, this notice announces the FY 2005 release of the new version of the Federal Real Property Profile (FRPP) Summary Report, which provides an overview of the U.S. Government’s owned and leased real property as of September 30, 2005. The FY 2005 FRPP Summary Report is now available.

EFFECTIVE DATE: June 8, 2006.

FOR FURTHER INFORMATION CONTACT For clarification of content, contact Stanley C. Langfeld, Director, Regulations Management Division (MPR), General Services Administration, Washington, DC 20405; stanley.langfeld@gsa.gov, (202) 501-1737. Please cite FMR Bulletin 2006-B4.

SUPPLEMENTARY INFORMATION: The FY 2005 FRPP Summary Report is a summary of the Government's real property assets as generated by the FRPP inventory system which was recently enhanced and modified in response to the Federal Real Property Council's (FRPC) requirements. GSA partnered with numerous Federal agencies and the FRPC to develop and manage a centralized, comprehensive, and descriptive database of the Government's real property portfolio. GSA, in collaboration with the FRPC, determined that enhancing the existing FRPP with numerous modifications and upgrades was the most cost-effective, efficient solution. The goals of the centralized database are to 1) improve decision-making with more accurate and reliable data; 2) provide the ability to benchmark Federal real property assets; and 3) consolidate government real property data collection into one inventory system.

Dated: June 1, 2006.
John G. Sindelar,
Acting Associate Administrator, Office of Governmentwide Policy.

General Services Administration

[FMR Bulletin 2006-B4]

Real Property

To: Heads of Federal Agencies

Subject: Federal Real Property Profile Summary Report

1. What is the purpose of this Bulletin? This Bulletin announces the FY 2005 release of the new version of the Federal Real Property Profile (FRPP) Summary Report, which provides an overview of the U.S. Government's owned and leased real property as of September 30, 2005.

2. What is the background?

a. On February 4, 2004, the President issued Executive Order (EO) 13327, “Federal Real Property Asset Management,” and established the Federal Real Property Council (FRPC) to oversee the Government's asset management planning process and to improve governmentwide real property performance. The EO requires the Administrator of General Services, in consultation with the FRPC, to develop and maintain a centralized inventory database, incorporating all key elements identified by the FRPC.

b. GSA and the FRPC determined that enhancing the existing FRPP with numerous modifications and upgrades was the most cost-effective, efficient solution to meeting the FRPC requirements. The goals of the centralized database are to (1) improve decision-making with more accurate and reliable data; (2) provide the ability to benchmark Federal real property asset performance; and (3) consolidate government real property data collection into one inventory system.

c. This is the first issuance of what will be an annual FRPP Summary Report generated by the newly-enhanced FRPP inventory system. The detailed information for this Summary Report is held in a password-protected Web-based database. This database allows Federal asset managers to update real property data on-line and in real time, produce ad hoc reports, measure performance of real property assets, and identify unneeded and underutilized assets for disposal. The FRPP Summary Report provides information regarding Federal real property holdings to stakeholders, including the Office of Management and Budget, Congress, the Federal community, and the public. Agencies confirmed their FY 2005 data summary figures prior to the FRPP Summary Report's publication.

3. How can we obtain a copy of the FRPP summary report? You will find the FY 2005 version of the FRPP Summary Report on the GSA website at http://www.gsa.gov/realpropertyprofile. At this site, you will be able to read, print, or download this report. You can also obtain a copy from the Asset Management Division (MPA), Office of Governmentwide Policy, General Services Administration, 1800 F Street, N.W., Washington, DC 20405.

4. Who should we contact for further information regarding the FRPP? For further information, contact Stanley C. Langfeld, Director, Regulations Management Division (MPR), Office of Governmentwide Policy, General Services Administration, by phone (202) 501-1737, or by e-mail at stanley.langfeld@gsa.gov.

[FR Doc. E6-8920 Filed 6-7-06; 8:45 am]

BILLING CODE 6820-RH-S